DEPARTMENT OF LABOR

Employee Benefits Security Administration

29 CFR Part 2578

Rules and Regulations for Abandoned Individual Account Plans

CFR Correction

In Title 29 of the Code of Federal Regulations, Part 1927 to End, revised as of July 1, 2009, on pages 664 and 665, remove the second Appendix C; and on page 661, correct Appendix B to read as follows:

[FR Doc. 2010-14882 Filed 6-17-10; 8:45 am]

BILLING CODE 1501-01-D